DEPARTMENT OF COMMERCE

National Oceanic and Atmospheric Administration

Science Advisory Board; Open Meeting

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice will provide necessary input to ensure that National Oceanic and Atmospheric Administration (NOAA) science programs are of the highest quality and provide optimal support to resource management.

Time and Date: The meeting will be held Friday, September 29, 2000, from 9 a.m. to 5 p.m.

Place: The meeting will be held in Room 1414 at the Department of Commerce, 14th and Constitution Avenues, Washington, DC.

Status: The meeting will be open to public participation with a 1 hour time period set aside during the meeting for direct verbal comments or questions from the public. The SAB expects that public statements presented at its meetings will not be repetitive of previously submitted verbal or written statements. In general, each individual or group making a verbal presentation will be limited to a total time of five (5) minutes. Written comments (at least 35 copies and in electronic format, if possible) should be received in the SAB Executive Directors's Office by September 22, 2000 in order to provide sufficient time for SAB review. Written comments received by the SAB Executive Director after September 22 will be distributed to the SAB, but may not be reviewed prior to the meeting date. Approximately thirty (30) seats will be available for the public including five (5) seats reserved for the media. Seats will be available on a first-come, first-served basis.

Matters to be Considered: The meeting will include the following topics: (1) Review of the Oceans Exploration Panel Report to the President, (2) Presentation and SAB discussion of the National Science Foundations' new environmental initiative, and (3) Presentations and SAB discussions of other oceans-related issues.

FOR FURTHER INFORMATION CONTACT: Dr. Michael Uhart, Executive Director, Science Advisory Board, NOAA, Rm. 11142, 1315 East-West Highway, Silver Spring, Maryland 20910 (Phone: 301-713-9121, Fax: 301-713-3515, E-mail: Michael.Uhart@noaa.gov); or visit the NOAA SAB website at http://www.sab.noaa.gov.

Dated: September 14, 2000.
David L. Evans,
Assistant Administrator, OAR.

[FR Doc. 00-24197 Filed 9-20-00; 8:45 am]

BILLING CODE 3510-08-M